DEPARTMENT OF HEALTH AND HUMAN SERVICES

Food and Drug Administration

Food Advisory Committee; Tentative Schedule of Meetings for 2004; Amendment of Notice

AGENCY: Food and Drug Administration, HHS.

ACTION: Notice.

SUMMARY: The Food and Drug Administration (FDA) is announcing an amendment to the tentative schedule of meetings for 2004. This document was announced in the Federal Register of December 31, 2003 (68 FR 75574 through 75577). The amendment is being made to reflect the following change: The Center for Food Safety and Applied Nutrition is canceling the tentatively scheduled meeting for the Dietary Supplements Subcommittee of the Food Advisory Committee on September 14 and 15, 2004.

FOR FURTHER INFORMATION CONTACT: Carolyn E. Jeletic, Center for Food Safety and Applied Nutrition (HFS-006), Food and Drug Administration, 5100 Paint Branch Pkwy., College Park, MD 20740, 301-436-2397.

SUPPLEMENTARY INFORMATION: You may also obtain up-to-date meeting information by calling the Advisory Committee Information Line, 1-800-741-8138 (301-443-0572 in the Washington, DC area).

Dated: August 24, 2004.
Lester M. Crawford,
Acting Commissioner of Food and Drugs.

[FR Doc. 04-19777 Filed 8-30-04; 8:45 am]

BILLING CODE 4160-01-S